DEPARTMENT OF HEALTH AND HUMAN SERVICES

[Document Identifier: OS-0937-New]

Agency Information Collection Request: 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before March 11, 2019.

ADDRESSES: Submit your comments to OIRA_submission@omb.eop.gov or via facsimile to (202) 395-5806.

FOR FURTHER INFORMATION CONTACT: Sherrette Funn, Sherrette.Funn@hhs.gov or (202) 795-7714. When submitting comments or requesting information, please include the document identifier 0937-New-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: SMARTool Pilot Replication Project.

Type of Collection: OMB No. 0937-NEW—Office of the Assistant Secretary for Health (OASH).

Abstract: The Office of the Assistant Secretary for Health (OASH), U.S. Department of Health and Human Services (HHS), is requesting approval by OMB of a new information collection request. OASH is updating the Center for Relationship Education's Systematic Method for Assessing Risk-Avoidance Tool (SMARTool), a tool for sexual risk avoidance (SRA) curriculum developers and implementing organizations (IOs) to ensure that their SRA curricula are grounded in evidence. In an effort to assess the SMARTool's impact, OASH aims to conduct a formative evaluation to (1) provide preliminary evidence on the effectiveness of SRA curricula that are aligned with the SMARTool, (2) derive lessons learned to improve the implementation of SRA curricula, and (3) develop and test baseline and follow-up questionnaires that assess SRA program effects on the key SMARTool constructs. The evaluation will be conducted with an estimated four IOs. The evaluation will use quantitative and qualitative methods and will include both a process evaluation and an outcome evaluation.

Need and Proposed Use of the Information: To enhance the rigor of the evaluation, a comparison group will be identified for each IO, if possible. This would enable an assessment of whether any changes identified in individual and contextual risk and protective factors in the intervention group differ from those in the comparison group. The process evaluation will describe in detail each IO's program, how it was delivered, and factors that may have influenced the success of the program's implementation. Process evaluation data are necessary for the interpretation of outcome findings and to inform efforts to improve program implementation. Depending on their performance on measures of reliability and validity, the baseline and follow-up questionnaires may be made available to organizations planning to evaluate curricula that are aligned with the SMARTool.

Likely Respondents: Respondents will include participants in each of the IOs' SRA programs (9th or 10th grade youth), their parent(s), program facilitators, representatives of schools participating in the program (e.g., school principals), and school or school district administrative staff.

Exhibit 1—Total Estimated Annualized Burden Hours
Respondents | Form name | Number of respondents | Number of responses per respondent | Average burden per response (in hours) | Total burden (hours)
Outcome Evaluation
Parents | Parental consent | 2,356 | 1 | 5/60 | 196
High school students | Youth Assent | 2,356 | 1 | 5/60 | 196
| Baseline survey | 2,356 | 1 | 30/60 | 1,178
| Follow-up survey | 2,120 | 1 | 30/60 | 1,060
School or school district administrative staff | Classroom roster report | 24 | 1 | 120/60 | 48
Process Evaluation
Program Facilitators | Process Evaluation Facilitator Session Log | 48 | 20 | 15/60 | 240
Program Facilitators | Process Evaluation Facilitator Survey | 38 | 1 | 25/60 | 16
High school students | Process Evaluation Participant Survey | 1,060 | 1 | 10/60 | 177
Program facilitators, site representatives | Process Evaluation Key Informant Interviews | 24 | 1 | 60/60 | 24
Teachers | Attendance form | 48 | 20 | 5/60 | 80
Total burden |  |  |  |  | 3,135

Terry Clark,
Office of the Secretary, Paperwork Reduction Act Reports Clearance Officer.

[FR Doc. 2019-01595 Filed 2-7-19; 8:45 am]

BILLING CODE 4150-34-P